DEPARTMENT OF TRANSPORTATION

National Highway Traffic Safety Administration

[Docket No. NHTSA-2019-0078; Notice 2]

Jayco, Inc., Grant of Petition for Decision of Inconsequential Noncompliance

AGENCY: National Highway Traffic Safety Administration (NHTSA), Department of Transportation (DOT).

ACTION: Grant of petition.

SUMMARY: Jayco, Inc., (Jayco) has determined that certain model year (MY) 2020 travel trailers, manufactured by Jayco, do not fully comply with Federal Motor Vehicle Safety Standard (FMVSS) No. 110, Tire Selection and Rims and Motor Home/Recreation Vehicle Trailer Load Carrying Capacity Information for Motor Vehicles with a GVWR of 4,536 Kilograms (10,000 Pounds) or Less. Jayco filed a noncompliance report dated July 16, 2019. In coordination with Jayco, Starcraft RV (Starcraft) and Highland Ridge RV (Highland), subsidiaries of Jayco, also filed noncompliance reports dated July 17, 2019. Jayco subsequently petitioned NHTSA on July 31, 2019, and later amended that petition on September 26, 2019, and November 6, 2019, for a decision that the subject noncompliances are inconsequential as it relates to motor vehicle safety. This document announces the grant of Jayco's petition.

FOR FURTHER INFORMATION CONTACT: Ahmad Barnes, Office of Vehicle Safety Compliance, the National Highway Traffic Safety Administration (NHTSA), telephone (202) 366-7236.

SUPPLEMENTARY INFORMATION:

I. Overview

Jayco has determined that certain MY 2020 travel trailers, manufactured by Jayco, do not fully comply with paragraph S4.3.5 of FMVSS No. 110, Tire Selection and Rims and Motor Home/Recreation Vehicle Trailer Load Carrying Capacity Information for Motor Vehicles with a GVWR of 4,536 Kilograms (10,000 Pounds) or Less (49 CFR 571.110). Jayco filed a noncompliance report dated July 16, 2019, and in addition, Starcraft and Highland, subsidiaries of Jayco, also filed noncompliance reports dated July 17, 2019, pursuant to 49 CFR part 573, Defect and Noncompliance Responsibility and Reports. Jayco subsequently petitioned NHTSA on July 31, 2019, and later amended that petition on September 26, 2019, and November 6, 2019, for an exemption from the notification and remedy requirements of 49 U.S.C. Chapter 301 on the basis that these noncompliances are inconsequential as they relate to motor vehicle safety, pursuant to 49 U.S.C. 30118(d) and 30120(h) and 49 CFR part 556, Exemption for Inconsequential Defect or Noncompliance. As far as the subsequent petitions are concerned, the September 26, 2019, amended petition removed affected Canadian units. The November 6, 2019, amended petition modified an attachment provided with the petition.

Notice of receipt of Jayco's petition was published with a 30-day public comment period, on January 6, 2020, in the Federal Register (85 FR 554). No comments were received. To view the petition and all supporting documents log onto the Federal Docket Management System (FDMS) website at https://www.regulations.gov/. Then follow the online search instructions to locate docket number “NHTSA-2019-0078.”

II. Trailers Involved

Approximately 6,354 MY 2020 Jayco, approximately 1,006 Starcraft, and approximately 814 Highland travel trailers, manufactured between May 1, 2019, and June 27, 2019, were reported by the manufacturer.

In its petition, Jayco states that the total number of vehicles affected is 8,983. However, that number also includes travel trailers sold in Canada. NHTSA can only grant exemption for vehicles sold in the United States, totaling approximately 8,174 vehicles.

III. Noncompliance

Jayco explains that the noncompliances are that the subject travel trailers are equipped with vehicle placards that state the incorrect vehicle capacity weight and contain an extra character in the recommended tire inflation pressure, therefore, do not meet the requirements set forth in paragraph S4.3.5 of FMVSS No. 110. Specifically, the vehicle placards state that the vehicle weight capacity as 80 kg when it should be 807 kg. Also, the recommended tire inflation pressure for the rear tire states “552 IKPA,” and the spare tire states “552 7KPA” when they should read 552 KPA.

IV. Rule Requirements

Paragraph S4.3.5 of FMVSS No. 110 includes the requirements relevant to this petition. Each trailer, except for an incomplete vehicle, must show the information specified in paragraphs S4.3(c) through (g) and may show the information specified in paragraphs S4.3(h) and (i), on a placard permanently affixed proximate to the certification label. Each trailer, on the vehicle placard, contains a cargo capacity statement expressed as “The weight of cargo should never exceed XXX kilograms or XXX pounds.” A vehicle manufacturer's recommended cold tire inflation pressure for front, rear, and spare tires is subject to the limitations of paragraph S4.3.4.

V. Summary of Jayco's Petition

The following views and arguments presented in this section, “V. Summary of Jayco's Petition,” are the views and arguments provided by Jayco.

Jayco describes the subject noncompliances and contends that the noncompliances are inconsequential as they relate to motor vehicle safety. Jayco argues that although the vehicle weight capacity stated on the vehicle placard is incorrect, the correct value is displayed on the cargo carrying capacity (CCC) label.

Jayco believes that the extra character shown in the cold tire inflation pressure is inconsequential because the correct information is also provided on the sidewall of the tire.

Jayco argues that the top section of the certification label provides the same information as the tire and loading information label and states the correct tire size dimensions and the cold pressure inflation values. Additionally, Jayco says that the bottom section of the certification label displays the CCC of the trailer, which includes the weight values with the fresh water and the waste water tanks filled.

Furthermore, Jayco says that the owner's manual for the subject vehicles includes instructions on how to load the vehicle and where to find the required ratings that are shown on the certification label. Jayco adds that the owner's manuals are also available on the company website at www.jayco.com.

Jayco adds that the Manufacturer's Certificate of Origin (MCO) includes the Gross Vehicle Weight Rating (GVWR) and the unloaded vehicle weight (UVW). The difference between these two values would also provide the CCC of the trailer.

Jayco says that all of the trailers affected by the subject noncompliance have been purchased and Jayco has not received any complaints or inquiries regarding CCC from any owners or dealers of the subject trailers.

Jayco contends that NHTSA has granted similar inconsequential petitions in the past, citing a petition from General Motors that was granted in 2019 as an example.¹

¹ See General Motors, LLC, Grant of Petition for Decision of Inconsequential Noncompliance, 84 FR 25117 (May 30, 2019).

Jayco concludes that the subject noncompliances are inconsequential as they relate to motor vehicle safety, and that its petition to be exempted from providing notification of the noncompliance, as required by 49 U.S.C. 30118, and a remedy for the noncompliance, as required by 49 U.S.C. 30120, should be granted.

VI. NHTSA's Analysis

Jayco explains that the noncompliances are that the “THE COMBINED WEIGHT OF CARGO SHOULD NEVER EXCEED: XXX kg or XXX lbs.” figures represented on the required FMVSS No. 110 vehicle placard label manufactured for their RV travel trailers are incorrect and the “cold tire pressure” on the same vehicle placards were printed with an extra character for the rear and spare tire line items.

In this particular case, the error pertaining to weight capacity is not deleterious to the safety and well-being of the vehicle operator and its occupants. First, the information on the label required by S4.3.5 of FMVSS No. 110 is more restrictive (80 kg vice the correct figure of 807 kg), allows less weight (cargo) to be present on the vehicle and is obviously wrong. Further, a small search effort by the vehicle user provides an accurate determination of the correct maximum cargo carrying capacity.

FMVSS No. 110 paragraph S9 mandates that each motor home and RV trailer must affix either a motor home occupant and cargo carrying capacity label or an RV trailer CCC label to its vehicles. Among the items of information which the labels must display is the statement that “THE COMBINED WEIGHT OF CARGO SHOULD NEVER EXCEED: XXX kg or XXX lbs.” In the case of the Jayco manufactured trailers, the trailers' CCC labels display the correct information—807 kg.

In reference to tire pressure the error present here is the display of an “extra” character. To the extent this extra character may confuse an owner or user, an accurate display of the vehicle's cold tire pressure may be found on the vehicle's certification label typically found adjacent to the required FMVSS No. 110 vehicle placard.

An additional source of a trailer's weight and loading characteristics may be found physically in the form of a book in the vehicle's owner's manual, or more often are typically found online.

Jayco notes that NHTSA has previously granted similar inconsequential petitions with respect to this error. The noted example was that of a General Motors, LLC grant of petition for inconsequential noncompliance due to vehicle tire placards that incorrectly stated the spare tire size and cold tire pressure. In that case, the agency agreed with the petitioner that there were several alternative locations to retrieve the desired information.

In this case, the agency agrees that the noncompliance is inconsequential to motor vehicle safety as the information which was the subject of the petition itself—the CCC and the cold tire pressure values—are available and obtainable by other reasonable means. The maximum cargo carrying capacity may be obtained from the CCC label and may be calculated by subtracting the unloaded vehicle weight from the gross vehicle weight rating. Besides the vehicle's tire and information placard, the vehicle operator could seek out the certification label, one of the mounted tires on the vehicle, or the vehicle's owner's manual for specific information related to the cold tire pressure that the vehicle may safely be operated with.

VII. NHTSA'S Decision

In consideration of the foregoing, NHTSA finds that Jayco has met its burden of persuasion that the subject FMVSS No. 110 noncompliance at issue is inconsequential to motor vehicle safety.

Accordingly, Jayco's petition is hereby granted and Jayco is consequently exempt from the obligation of providing notification of, and a free remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject trailers that Jayco no longer controlled at the time it determined that the noncompliance existed. However, the granting of this petition does not relieve vehicle distributors and dealers of the prohibitions on the sale, offer for sale, or introduction or delivery for introduction into interstate commerce of the noncompliant trailers under their control after Jayco notified them that the subject noncompliance existed.

(Authority: 49 U.S.C. 30118, 30120: delegations of authority at 49 CFR 1.95 and 501.8)

Otto G. Matheke III,
Director, Office of Vehicle Safety Compliance.

[FR Doc. 2024-24310 Filed 10-18-24; 8:45 am]

BILLING CODE 4910-59-P